DEPARTMENT OF HOMELAND SECURITY

U.S. Customs and Border Protection

Notice of Cancellation of Accreditation of St Laboratories Group, LLC, as a Commercial Laboratory

AGENCY: U.S. Customs and Border Protection, Department of Homeland Security.

ACTION: Cancellation of accreditation of ST Laboratories Group, LLC as a commercial laboratory.

SUMMARY: Notice is hereby given, pursuant to CBP regulations, that CBP has cancelled the accreditation of ST Laboratories Group, LLC, to test petroleum and certain petroleum products for customs purposes as of June 20, 2014.

DATES: Effective Dates: The cancellation of accreditation of ST Laboratories Group, LLC as a commercial laboratory became effective on June 20, 2014.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12 that Customs and Border Protection has cancelled the accreditation of ST Laboratories Group, LLC, 1404 S. Houston Rd., Pasadena, TX 77502, to test petroleum and certain petroleum products for customs purposes for the reasons set forth below. ST Laboratories Group, LLC had been accredited to test petroleum and certain petroleum products as of September 12, 2013. See 79 FR 2680 (January 15, 2014). On July 11, 2014, CBP was notified that Nexeo Solutions, LLC purchased ST Laboratories Group, LLC, which is now a wholly-owned subsidiary of the purchasing company. Further, the bond registered with CBP by ST Laboratories Group, LLC was subsequently terminated. Therefore, due to the fact that ST Laboratories Group, LLC no longer exists as a business in the form previously accredited by CBP, the accreditation as a commercial laboratory is cancelled.

Please reference the Web site listed below for a complete listing of CBP approved gaugers and accredited laboratories. http://www.cbp.gov/about/labs-scientific/commercial-gaugers-and-laboratories.

Dated: August 4, 2014.
Ira S. Reese,
Executive Director, Laboratories and Scientific Services Directorate.

[FR Doc. 2014-19087 Filed 8-12-14; 8:45 am]

BILLING CODE 9111-14-P